DEPARTMENT OF STATE

[Public Notice 6079]

Shipping Coordinating Committee; Notice of Meeting

The Subcommittee for the Prevention of Marine Pollution of the Shipping Coordinating Committee (SHC) will conduct an open meeting at 9:30 a.m. on Wednesday, March 12, 2008, in Room 2415 of the United States Coast Guard Headquarters Building, 2100 2nd Street SW., Washington, DC 20593-0001. The primary purpose of the meeting is to prepare for the 57th Session of the International Maritime Organization's (IMO) Marine Environment Protection Committee (MEPC) to be held by the IMO, at the Royal Horticultural Halls and Conference Centre in London, England from March 31 to April 4, 2008. The primary matters to be considered include:

—Harmful aquatic organisms in ballast water;

—Recycling of ships;

—Prevention of air pollution from ships;

—Interpretation and amendments of MARPOL 73/78 and related instruments;

—Implementation of the International Convention on Oil Pollution Preparedness, Response and Cooperation (OPRC) Convention and the OPRC-Hazardous Noxious Substance (OPRC-HNS) Protocol and relevant conference resolutions;

—Identification and protection of Special Areas and Particularly Sensitive Sea Areas;

—Inadequacy of reception facilities;

—Reports of IMO sub-committees;

—Work of other bodies;

—Status of IMO Conventions;

—Harmful anti-fouling systems for ships;

—Promotion of implementation and enforcement of MARPOL 73/78 and related instruments;

—Follow-up to the United Nations Conference on Environment and Development (UNCED) and World Summit on Sustainable Development (WSSD);

—Technical co-operation programme;

—Role of the human element;

—Formal safety assessment;

—Work program of the MEPC and subsidiary bodies;

—Application of the MEPC's Guidelines; and

—Consideration of the report of the MEPC.

Please note that hard copies of documents associated with MEPC 57 will not be provided at this meeting. To request documents in electronic format (via e-mail or CD-ROM), please write to the address provided below, or request documents via the following Internet link: http://www.uscg.mil/hq/g-m/mso/IMOMEPC.htm.

Members of the public may attend this meeting up to the seating capacity of the room. Interested persons may seek information by writing to Lieutenant Heather St. Pierre, Commandant (CG-5224), U.S. Coast Guard Headquarters, 2100 Second Street SW., Room 1601, Washington, DC 20593-0001 or by calling (202) 372-1432.

Dated: February 5, 2008.
Mark W. Skolnicki,
Executive Secretary, Shipping Coordinating Committee, Department of State.

[FR Doc. E8-2649 Filed 2-12-08; 8:45 am]

BILLING CODE 4710-09-P